DEPARTMENT OF HEALTH AND HUMAN SERVICES

Administration for Children and Families

Submission for Office of Management and Budget Review; Proposed Information Collection Activity; Tribal Early Childhood Facilities Combined Application Guide (New Collection)

AGENCY: Office of Early Childhood Development, Administration for Children and Families, U.S. Department of Health and Human Services.

ACTION: Request for public comments.

SUMMARY: The Office of Early Childhood Development (ECD), Administration for Children and Families (ACF), U.S. Department of Health and Human Services (HHS), is requesting Office of Management and Budget (OMB) approval of the Tribal Early Childhood Facilities Combined Application Guide for joint applications for construction and major renovation projects using both Head Start and Child Care and Development Fund (CCDF) resources.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Funding for facilities under the CCDF is authorized by Section 658O(c)(6) of the Child Care and Development Block Grant (CCDBG) Act, 42 U.S.C. 9858(c)(6), and is managed by the Office of Child Care (OCC). Funding for Head Start facilities projects is authorized by 45 CFR part 1303 (Subpart E) Head Start Program Performance Standards and is managed by the Office of Head Start (OHS). The guide streamlines the process for Tribal CCDF Lead Agencies and American Indian and Alaska Native (AI/AN) Head Start programs submitting collaborative, joint applications to use federal CCDF and Head Start funds for facilities projects where funds can be used for reasonable costs and fees related to planning for a facilities project and to support the application development in tribal communities. Both funds aim to construct or improve early childhood facilities, often serving the same children, but application submission and review processes are currently unique to each respective funding stream. The proposed information collection will provide instructions to Tribal CCDF Lead Agencies and AI/AN Head Start programs on submitting joint plans for how proposed facilities projects will enable the programs to better serve current AI/AN families or increase enrollment currently limited by inadequate facilities. The guide will provide critical information and resources, so recipients understand the requirements of each program and develop plans that reflect the needs of their communities. Reducing and streamlining administrative burdens for tribal constituents follows policy priorities laid out in the 2022 HHS Equity Action Plan and is in alignment with Executive Order 14095—Executive Order on Increasing Access to High-Quality Care and Supporting Caregivers.

Respondents: AI/AN Head Start Facilities and Tribal CCDF Lead Agencies (information collection does not include direct interaction with individuals or families that receive the services).

Annual Burden Estimates: We estimate at most 10 applications per year and have estimated burden based on this maximum number.

Instrument | Total number of respondents | Annual number of responses per respondent | Average burden hours per response | Annual burden hours
Tribal Early Childhood Facilities Application Guide | 10 | 1 | 100 | 1,000

Authority: 42 U.S.C. 9858(c)(6); 45 CFR part 1303 Subpart E.

Mary C. Jones,
ACF/OPRE Certifying Officer.

[FR Doc. 2024-07292 Filed 4-4-24; 8:45 am]

BILLING CODE 4184-40-P